ENVIRONMENTAL PROTECTION AGENCY

[EPA-HQ-OLEM-2020-0521; FRL-10016-49-OLEM]

Proposed Information Collection Request; Comment Request; Survey of State Emergency Response Commissions (SERCs)

AGENCY: Environmental Protection Agency (EPA).

ACTION: Notice.

SUMMARY: The Environmental Protection Agency is planning to submit an information collection request (ICR), “Survey of State Emergency Response Commissions (SERCs)” (EPA ICR No. 2660.01, OMB Control No. 2050-new) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before January 11, 2021.

ADDRESSES: Submit your comments, referencing Docket ID No. EPA-HQ-OLEM-2020-0521, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Sicy Jacob, Regulations Implementation Division, Office of Emergency Management, Mail Code 5104A, Environmental Protection Agency, 1200 Pennsylvania Ave. NW, Washington, DC 20460; telephone number: (202) 564-8019; email address: jacob.sicy@epa.gov.

SUPPLEMENTARY INFORMATION: Supporting documents which explain in detail the information that the EPA will be collecting are available in the public docket for this information collection request (ICR). The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The EPA's Office of Emergency Management is conducting a survey of the State Emergency Response Commissions (SERCs) of each State and territories of the U.S. The SERCs were created under the Emergency Planning and Community Right-to-Know Act (EPCRA) of 1986. The purpose of this survey is to gather information on how EPCRA is being implemented, best practices, challenges, and gaps in meeting the requirements. After the survey is completed, EPA is planning to publish the results of the survey, including success stories and lessons learned to share with all states and territories.

EPCRA established State Emergency Response Commissions (SERCs) and Local Emergency Planning Committees (LEPCs) and assigned implementation responsibilities to these state and local agencies. EPCRA required SERCs to appoint LEPCs ¹ within a few months after the enactment of EPCRA and to supervise their activities. Importantly, SERCs should ensure that LEPCs develop local emergency response plans for their community, review the plans, and make suggestions to coordinate the plans with neighboring LEPCs. In addition, SERCs are required to collect and manage hazardous chemical information from facilities and to provide access to the public on the presence of hazardous chemicals in the community.

¹ Approximately, 3,000 LEPCs were established within few months after the enactment of EPCRA.

In response to the deadly explosion at a fertilizer distribution facility in West Texas, Executive Order (E.O.) 13650 was signed, which directed the federal government to improve the safety and security of chemical facilities and reduce the risks of hazardous chemicals to workers and communities. One of the key components of the E.O. was to strengthen the state and local infrastructure created by EPCRA for emergency planning and preparedness. EPA published additional guidance documents, and developed on-line training for states, tribes and local agencies to implement EPCRA to protect their community and first responders.

As part of the America's Water Infrastructure Act (AWIA),² promulgated in October 2018, additional coordination and provision of information responsibilities were established for SERCs and LEPCs under EPCRA. Specifically, these EPCRA amendments establish notification and information coordination with State Drinking Water Agency and Community Water Systems to ensure that these agencies prepare and protect the community from contamination of their water.

² The America's Water Infrastructure Act (AWIA) amended the emergency release notification and the hazardous chemical inventory provisions of the 1986 legislation. The amendments require the SERCs to provide immediate notification to the State Drinking Water Primacy Agency or the Community Water Systems where there is no primacy agency. The amendment to the hazardous chemical inventory provisions require the SERCs and LEPCs to provide access to the “Tier II” information upon request by the community water systems.

The data collected in this survey will inform the Agency about how SERCs are fulfilling the requirements of the law, specifically in sharing key information among all appropriate State organizations and managing LEPCs and their activities. Additionally, the results of the survey will help to identify areas where SERCs are having difficulty meeting their requirements, the specific challenges they are facing, and will identify areas where EPA can better assist SERCs and LEPCs in implementing EPCRA and its amendments under AWIA.

Form Numbers: None.

Respondents/affected entities: Respondents to this voluntary ICR are State Emergency Response Commissions (SERCs).

Respondent's obligation to respond: Voluntary.

Estimated number of respondents: Approximately 56 (total).

Frequency of response: Once.

Total estimated burden: 4 Hours/respondent, 224 hours total. Burden is defined at 5 CFR 1320.03(b).

Total estimated cost: $284/respondent, $15,904 total, includes $0 annualized capital or operation & maintenance costs.

Reggie Cheatham,
Director, Office of Emergency Management.

[FR Doc. 2020-24998 Filed 11-10-20; 8:45 am]

BILLING CODE 6560-50-P